DEPARTMENT OF ENERGY

International Energy Agency Meeting

AGENCY: Department of Energy.

ACTION: Notice of meeting.

SUMMARY: Subject to timely enactment of legislation to reinstate the antitrust defense under section 252 of the Energy Policy and Conservation Act, a meeting of the Industry Advisory Board to the International Energy Agency will be held on November 14, 2000, at the headquarters of the IEA in Paris, France in connection with a meeting of the IEA's Standing Group on Emergency Questions.

FOR FURTHER INFORMATION CONTACT: Samuel M. Bradley, Assistant General Counsel for International and National Security Programs, Department of Energy, 1000 Independence Avenue, SW., Washington, DC 20585, 202-586-6738.

SUPPLEMENTARY INFORMATION: Subject to timely enactment of legislation to reinstate the antitrust defense under section 252 of the Energy Policy and Conservation Act (EPCA), the following meeting notice is provided, in accordance with section 252(c)(1)(A)(i) of the EPCA (42 U.S.C. 6272(c)(1)(A)(i)):

A meeting of the Industry Advisory Board (IAB) to the International Energy Agency (IEA) will be held at the headquarters of the IEA, 9, rue de la Fédération, Paris, France, on November 14, 2000, beginning at approximately 9 a.m. The purpose of this notice is to permit attendance by representatives of U.S. company members of the IAB at a meeting of the IEA's Standing Group on Emergency Questions (SEQ), which is scheduled to be held at the IEA on November 14, including a preparatory encounter among company representatives on November 14 from approximately 9 a.m. to 9:15 a.m.

The Agenda for the preparatory encounter among company representatives is to elicit views regarding items on the SEQ's Agenda. The Agenda for the SEQ meeting is under the control of the SEQ. It is expected that the SEQ will adopt the following Agenda:

1. Adoption of the Agenda

2. Approval of the Summary Record of the 99th Meeting

3. SEQ Work Program

• The Year 2001 Work Program of the SEQ

4. Follow-up to the Governing Board Decision of October 26

• Measures to Ensure Compliance with IEA Stockholding Commitments

• Alternative Criteria for Use of Emergency Stocks

5. Emergency Response Preparedness

• Report on Results of Special Data Collection on Stocks and Refinery Operations

• Report on the Communications Test

• Arrangements for Preparedness Checklist and Country Profiles

• Reports on Recent Test/Drawdown/Sale Operations by the United States, Japan and Germany

• United States Heating Oil Reserves

6. Policy and Legislative Developments in Member Countries

• Status of United States EPCA

• Revision to Oil Emergency Policies and Procedures of the United Kingdom

• Status of the new Dutch Stockholding Law

• Follow-up to Biarritz meeting of European Union Heads of State

• Other

7. Current IAB Activities (subject to reinstatement of EPCA's antitrust defense)

8. Emergency Reserve Issues

• Progress Report of the Working Group on Unavailable Stocks

9. Policy and Legislative Developments in Candidate Countries

• Emergency Response Review of Korea

• Recent Developments in Korea

• Other

10. Oil Security Developments in Member Countries

• China-Japan Stockholding Symposium of October 17-18

• APEC Initiatives on Stockholding

• Other Initiatives and Events

11. Emergency Data System and Related Questions

• Monthly Oil Statistics July 2000

• Base Period Final Consumption 3Q99—2Q00

12. Emergency Reference Guide

• Update of Emergency Contact Points List

13. Other Business

• Dates of future SEQ Meetings and the Millennium Conference on Oil Security Strategy

• Reminder of submission of comments on:

Transition from CERM (Coordinated Emergency Response Measures) to IEP (International Energy Program) Procedures

First Draft of Questionnaire for Next Review Cycle

As provided in section 252(c)(1)(A)(ii) of the Energy Policy and Conservation Act (42 U.S.C. 6272(c)(1)(A)(ii)), this meeting is open only to representatives of members of the IAB and their counsel, representatives of members of the SEQ, representatives of the Departments of Energy, Justice, and State, the Federal Trade Commission, the General Accounting Office, Committees of Congress, the IEA, and the European Commission, and invitees of the IAB, the SEQ, or the IEA.

Issued in Washington, DC, November 2, 2000.
Mary Anne Sullivan,
General Counsel.

[FR Doc. 00-28536 Filed 11-6-00; 8:45 am]

BILLING CODE 6450-01-P